DEPARTMENT OF COMMERCE

National Oceanic and Atmospheric Administration

[I.D. 080400D]

North Pacific Fishery Management Council; Public Meeting

AGENCY: National Marine Fisheries Service (NMFS), National Oceanic and Atmospheric Administration (NOAA), Commerce.

ACTION: Notice of committee meetings.

SUMMARY: The North Pacific Fishery Management Council's (NPFMC) Halibut Subsistence Committee will meet in Anchorage, AK.

DATES: The meeting will be held on September 7, 2000.

ADDRESSES: The meeting will be held at the Anchorage Sheraton Hotel, 401 E. 6th Avenue, Anchorage, AK.

Council address: North Pacific Fishery Management Council, 605 W. 4th Ave., Suite 306, Anchorage, AK 99501-2252.

FOR FURTHER INFORMATION CONTACT: Jane DiCosimo, NPFMC, 907-271-2809.

SUPPLEMENTARY INFORMATION: The meeting will begin at 9:00 a.m. on Thursday, September 7, in the Executive Board Room at the Sheraton Anchorage Hotel, and conclude at noon. The committee will review a draft of the halibut subsistence analysis and provide recommendations for final Council action in October.

Although non-emergency issues not contained in this agenda may come before this Committee for discussion, in accordance with the Magnuson-Stevens Fishery Conservation and Management Act, those issues may not be the subject of formal action during this meeting. Action will be restricted to those specifically identified in the agenda and any issues arising after publication of this notice that require emergency action under section 305(c) of the Magnuson-Stevens Act, provided the public has been notified of the Council's intent to take action to address the emergency.

Special Accommodations

These meetings are physically accessible to people with disabilities. Requests for sign language interpretation or other auxiliary aids should be directed to Helen Allen, 907-271-2809, at least 5 working days prior to the meeting date.

Dated: August 7, 2000.
Richard W. Surdi,
Acting Director, Office of Sustainable Fisheries, National Marine Fisheries Service.

[FR Doc. 00-20466 Filed 8-11-00; 8:45 am]

BILLING CODE 3510-22-F